DEPARTMENT OF HOMELAND SECURITY

Federal Emergency Management Agency

[Docket ID FEMA-2020-0016]

Meetings To Implement Pandemic Response Voluntary Agreement Under Section 708 of the Defense Production Act

AGENCY: Federal Emergency Management Agency, Department of Homeland Security.

ACTION: Announcement of meetings; correction.

SUMMARY: The Federal Emergency Management Agency (FEMA) published a document in the Federal Register of January 6, 2022, concerning four meetings under the Plan of Action to Establish a National Strategy for the Coordination of National Multimodal Healthcare Supply Chains to Respond to COVID-19. The document contained an incorrect date.

FOR FURTHER INFORMATION CONTACT: Robert Glenn, Office of Business, Industry, Infrastructure Integration, via email at OB3I@fema.dhs.gov or via phone at (202) 212-1666.

SUPPLEMENTARY INFORMATION:

Correction

In the Federal Register of January 6, 2022, in FR Doc. 87-784, on page 784, in the second column, correct the DATES caption to read:

Dates

• Wednesday, January 5, 2022, from 1 p.m. to 3 p.m. Eastern Time (ET).

• Wednesday, January 12, 2022, from 1 p.m. to 3 p.m. ET.

• Wednesday, January 19, 2022, from 1 p.m. to 3 p.m. ET.

• Wednesday, February 2, 2022, from 1 p.m. to 3 p.m. ET.

Dated: January 26, 2022.
Shabnaum Q. Amjad,
Deputy Associate Chief Counsel, Regulatory Affairs Division, Office of Chief Counsel, Federal Emergency Management Agency.

[FR Doc. 2022-01940 Filed 1-31-22; 8:45 am]

BILLING CODE 9111-19-P